DEPARTMENT OF ENERGY

Federal Energy Regulatory Commission

Combined Notice of Filings, #1

December 12, 2008.

Take notice that the Commission received the following electric rate filings:

Docket Numbers: ER01-2398-016.

Applicants: Liberty Electric Power, LLC.

Description: Liberty Electric Power, LLC submits an updated market power analysis Triennial Report pursuant to the FERC Order 697.

Filed Date: 12/09/2008.

Accession Number: 20081211-0240.

Comment Date: 5 p.m. Eastern Time on Monday, February 9, 2009.

Docket Numbers: ER06-1355-003.

Applicants: Evergreen Wind Power, LLC.

Description: Evergreen Wind Power, LLC submits the clean and redlined versions of the revised market-based rate tariff etc.

Filed Date: 12/08/2008.

Accession Number: 20081211-0174.

Comment Date: 5 p.m. Eastern Time on Monday, December 29, 2008.

Docket Numbers: ER08-1214-002; ER08-1215-002; ER08-1216-002; ER08-1217-002; ER08-1218-002.

Applicants: Wisconsin Electric Power Company.

Description: Wisconsin Electric Power Company submits its compliance filing pursuant to the Commission's 11/10/08 Order.

Filed Date: 12/10/2008.

Accession Number: 20081211-0241.

Comment Date: 5 p.m. Eastern Time on Wednesday, December 31, 2008.

Docket Numbers: ER09-392-000.

Applicants: Niagara Mohawk Power Corporation.

Description: Niagara Mohawk Power Corp submits the Interconnection Facility and Interconnection Facility Premises Lease with New Athens Generating Co, LLC.

Filed Date: 12/08/2008.

Accession Number: 20081210-0075.

Comment Date: 5 p.m. Eastern Time on Monday, December 29, 2008.

Docket Numbers: ER09-393-000.

Applicants: West Oaks Energy, LLC.

Description: West Oaks Energy, LLC submits an application for market-based rate authority etc.

Filed Date: 12/10/2008.

Accession Number: 20081212-0110.

Comment Date: 5 p.m. Eastern Time on Wednesday, December 31, 2008.

Docket Numbers: ER09-394-000.

Applicants: Southwest Power Pool, Inc.

Description: Southwest Power Pool, Inc submits revisions to its Open Access Transmission Tariff to Incorporate Project Sponsor Upgrade Agreement, to be effective 2/7/09.

Filed Date: 12/09/2008.

Accession Number: 20081211-0250.

Comment Date: 5 p.m. Eastern Time on Tuesday, December 30, 2008.

Docket Numbers: ER09-395-000.

Applicants: Mid-Continental Area Power Pool.

Description: Mid-Continent Area Power Pool submits revisions to the contingency reserve sharing provisions of the MAPP Restated Agreement.

Filed Date: 12/09/2008.

Accession Number: 20081211-0249.

Comment Date: 5 p.m. Eastern Time on Tuesday, December 30, 2008.

Docket Numbers: ER09-396-000.

Applicants: Dynegy Power Marketing Inc.

Description: Dynegy Power Marketing, Inc requests that the FERC grant a waiver of Section 3(b) of its market-base rate tariff in order to continue selling regulation service to Central Illinois Light Co et al.

Filed Date: 12/09/2008.

Accession Number: 20081211-0246.

Comment Date: 5 p.m. Eastern Time on Tuesday, December 30, 2008.

Docket Numbers: ER09-397-000.

Applicants: El Paso Electric Company.

Description: El Paso Electric Company submits Supplement No 5 to Rate Schedule FERC No. 72, effective 12/10/08.

Filed Date: 12/09/2008.

Accession Number: 20081211-0248.

Comment Date: 5 p.m. Eastern Time on Tuesday, December 30, 2008.

Docket Numbers: ER09-398-000.

Applicants: Ameren Energy Marketing Company.

Description: Ameren Energy Generating Company et al submits Rate Schedule FERC 6 and Rate Schedule FERC 4 with supporting cost data, pursuant to Section 205 of the Federal Power Act.

Filed Date: 12/09/2008.

Accession Number: 20081211-0247.

Comment Date: 5 p.m. Eastern Time on Tuesday, December 30, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-30259 Filed 12-19-08; 8:45 am]

BILLING CODE 6717-01-P